SMALL BUSINESS ADMINISTRATION

[Declaration of Disaster #3241]

State of Ohio; Amendment #1

In accordance with information received from the Federal Emergency Management Agency, the above-numbered Declaration is hereby amended to extend the deadline for filing applications for physical damage as a result of this disaster from May 6, 2000 to May 8, 2000.

All other information remains the same, i.e., the deadline for filing applications for economic injury is December 7, 2000.

(Catalog of Federal Domestic Assistance Program Nos. 59002 and 59008)
Dated: April 28, 2000.
Bernard Kulik,
Associate Administrator for Disaster Assistance.

[FR Doc. 00-11644 Filed 5-9-00; 8:45 am]

BILLING CODE 8025-01-P